Proclamation 8725 of October 3, 2011

National Cybersecurity Awareness Month, 2011

By the President of the United States of America

A Proclamation

Americans, along with people around the world, depend on the Internet and digital tools for all aspects of our lives—from mobile devices to online commerce and social networking. This fundamental reliance is why our digital infrastructure is a strategic national asset, and why its security is our shared responsibility. This month, we recognize the role we all play in ensuring our information and communications infrastructure is interoperable, secure, reliable, and open to all.

Early in my Administration, we began updating our Nation’s cybersecurity programs and policies. We developed a comprehensive plan that ensures a coordinated national response to major disruptive cyber events. This May, we also proposed to the Congress a plan to strengthen protection of our power grids, water systems, and other critical infrastructure. And because we have seen the benefits and risks of cyber- and information-related technologies play out across the world, this year we laid out the first comprehensive international vision for the future of the Internet. It sets an agenda for partnering with other nations and better defines how we can ensure the secure, free flow of information and promote universal rights, privacy, and prosperity.

Every American has a stake in securing our networks and personal information, and we are working across the public and private sectors to ensure coordinated and planned responses to cyber incidents, as we do with natural disasters. The vast majority of our critical information infrastructure is owned and operated by businesses and enterprises across America. To help protect them, my Administration is collaborating with the private sector on best security practices, while continuing to provide the resources necessary for innovation—including expanded broadband access and smarter electric grids.

Cybersecurity is a necessity for both businesses and consumers, and that is why we released the National Strategy for Trusted Identities in Cyberspace. This plan improves security for consumers conducting e-commerce by helping prevent fraud and identity theft and by making it easier for businesses to operate online. We are also working with community-based organizations and public- and private-sector partners to empower digital citizens to make safe choices online through our “Stop. Think. Connect.” campaign.

The same American ingenuity that put a man on the moon also created the Internet, launching an information revolution. We must now harness that spirit of innovation to develop the next generation of accessible, secure technologies to build a safer, more prosperous future for all Americans.

NOW, THEREFORE, I, BARACK OBAMA, President of the United States of America, by virtue of the authority vested in me by the Constitution and the laws of the United States, do hereby proclaim October 2011 as National Cybersecurity Awareness Month. I call upon the people of the United States to recognize the importance of cybersecurity and to observe this month with activities, events, and trainings that will enhance our national security and resilience.

IN WITNESS WHEREOF, I have hereunto set my hand this third day of October, in the year of our Lord two thousand eleven, and of the Independence of the United States of America the two hundred and thirty-sixth.

[FR Doc. 2011-26144

Filed 10-6-11; 8:45 am]

Billing code 3295-F2-P